DEPART MENT OF ENERGY

Federal Energy Regulatory Commission

[Docket No. PF14-13-000]

Equitrans, L.P.; Notice of Intent To Prepare an Environmental Assessment for the Planned Ohio Valley Connector Project and Request for Comments on Environmental Issues

The staff of the Federal Energy Regulatory Commission (FERC or Commission) will prepare an environmental assessment (EA) that will discuss the environmental impacts of the Ohio Valley Connector Project (Project) involving construction and operation of facilities by Equitrans, L.P. (EQT) in Wetzel, Marshall, and Marion Counties, West Virginia, and Monroe County, Ohio. The Commission will use this EA in its decision-making process to determine whether the Project is in the public convenience and necessity.

This notice announces the opening of the scoping process the Commission will use to gather input from the public and interested agencies on the Project. Your input will help the Commission staff determine what issues they need to evaluate in the EA. Please note that the scoping period will close on September 29, 2014.

You may submit comments in written form. Further details on how to submit written comments are in the Public Participation section of this notice.

This notice is being sent to the Commission's current environmental mailing list for this Project. State and local government representatives should notify their constituents of this proposed Project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Summary of the Proposed Project

EQT proposes to provide approximately 900,000 dekatherms per day of new firm transportation capacity from natural gas produced in the central Appalachian Basin into the systems of Rockies Express Pipeline, LLC (REX) and Texas Eastern Transmission, LP (TETCO). Construction of the Project is planned to begin in August 2015 in order to meet the proposed in-service date of May 2016. The Ohio Valley Connector Project would include the following facilities:

• 34 miles of 30-inch-diameter pipeline along with pig ¹ receiving/launching facilities in Wetzel and Marshall Counties, West Virginia and Monroe County, Ohio that would deliver gas to the proposed Plasma Compressor Station (the H-310 segment);

¹ A “pig” is a tool that the pipeline company inserts into and pushes through the pipeline for cleaning the pipeline, conducting internal inspections, or other purposes.

• 1.5 miles of 30-inch-diameter pipeline, with a pigging facility, in Monroe County, Ohio from the proposed Plasma Compressor Station to the existing REX System (the H-311 segment);

• 14 miles of 24-inch-diameter loop ² along with pig receiving/launching facilities in Marion and Wetzel Counties, West Virginia from EQT's existing system to the proposed Corona Compressor Station (the H-313 segment);

² A loop is a segment of pipeline constructed parallel to an existing pipeline that ties into the existing system to increase capacity.

• 0.6 mile of 16-inch-diameter discharge pipeline, and pigging facility, in Wetzel County, West Virginia that would serve as a discharge line from the proposed Corona Compressor Station (the H-306 segment);

• Construction of two new compressor stations:

Plasma Compressor Station—installation of two gas-driven centrifugal compressors in Monroe County, Ohio with a combined 21,000 horsepower (hp) of compression; and

Corona Compressor Station—installation of one gas-driven 15,000-hp centrifugal compressor in Wetzel County, West Virginia;

• Installation of two new interconnects:

REX Interconnect—A 100-foot by 200-foot fenced area that would contain two 8-foot by 12-foot enclosures to house measurement and gas sampling equipment and other associated aboveground facilities; and

TETCO Interconnect—Two 8-foot by 12-foot enclosures that would house measurement and gas sampling equipment, along with other associated aboveground facilities and a short interconnect, all of which would be placed within the fenceline of the planned Plasma Compressor Station; and

• relocation of existing pigging facilities at EQT's Pickenpaw Meter Station to the eastern terminus of the H-306 pipeline segment within the proposed Corona Compressor Station and installation of new pipeline and valves at the Pickenpaw Meter Station.

Maps depicting the general location of the Project facilities are included in Appendix 1.³

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

The planned pipeline construction for the H-310 and H-311 segments (approximately 71 percent of the pipeline length) would impact approximately 456 acres of land temporarily and 213 acres permanently. EQT is still in the planning phase for the Project and construction workspace requirements for the H-306 and H-313 segments have not been finalized; however, operation of these two segments would permanently impact approximately 87 acres. Impacts associated with the use of additional temporary workspaces, laydown/contractor yards, and access roads would temporarily impact a minimum of 229 acres. The Plasma and Corona Compressor Stations would have a permanent footprint of 5.5 and 3.1 acres, respectively; the workspaces associated with these locations are still being determined.

The EA Process

The National Environmental Policy Act (NEPA) requires the Commission to take into account the environmental impacts that could result from an action whenever it considers the issuance of a Certificate of Public Convenience and Necessity. NEPA also requires us ⁴ to discover and address concerns the public may have about proposals. This process is referred to as “scoping.” The main goal of the scoping process is to focus the analysis in the EA on the important environmental issues. By this notice, the Commission requests public comments on the scope of the issues to address in the EA. We will consider all filed comments during the preparation of the EA.

⁴ “We,” “us,” and “our” refer to the environmental staff of the Commission's Office of Energy Projects.

In the EA we will discuss impacts that could occur as a result of the construction and operation of the planned Project under these general headings:

• Geology and soils;

• Water resources;

• Wetlands and vegetation;

• Fish and wildlife;

• Threatened and endangered species;

• Land use, recreation, and visual resources;

• Air quality and noise;

• Cultural resources;

• Socioeconomics;

• Reliability and safety; and

• Cumulative environmental impacts.

We will also evaluate reasonable alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section on page 5.

With this notice, we are asking agencies with jurisdiction by law and/or special expertise with respect to the environmental issues of this Project to formally cooperate with us in the preparation of the EA.⁵ Agencies that would like to request cooperating agency status should follow the instructions for filing comments provided under the Public Participation section of this notice.

⁵ The Council on Environmental Quality regulations addressing cooperating agency responsibilities are at Title 40, Code of Federal Regulations, § 1501.6.

Consultations Under Section 106 of the National Historic Preservation Act

In accordance with the Advisory Council on Historic Preservation's implementing regulations for section 106 of the National Historic Preservation Act, we are using this notice to initiate consultation with the applicable State Historic Preservation Office (SHPO), and to solicit their views and those of other government agencies, interested Indian tribes, and the public on the Project's potential effects on historic properties.⁶ We will define the Project-specific Area of Potential Effects (APE) in consultation with the SHPOs as the Project develops. On natural gas facility projects, the APE at a minimum encompasses all areas subject to ground disturbance (examples include construction right-of-way, contractor/pipe storage yards, compressor stations, and access roads). Our EA for this Project will document our findings on the impacts on historic properties and summarize the status of consultations under section 106.

⁶ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before September 29, 2014.

For your convenience, there are three methods which you can use to submit your comments to the Commission. In all instances please reference the Project docket number (PF14-13-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

If we publish and distribute the EA, copies will be sent to the environmental mailing list for public review and comment. If you would prefer to receive a paper copy of the document instead of the CD version or would like to remove your name from the mailing list, please return the attached Information Request (Appendix 2).

Becoming an Intervenor

Once EQT files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the Project is available from the Commission's Office of External Affairs, at (866) 208-FERC, or on the FERC Web site at www.ferc.gov using the “eLibrary” link. Click on the eLibrary link, click on “General Search” and enter the docket number, excluding the last three digits in the Docket Number field (i.e., PF14-13). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: August 29, 2014.
Kimberly D. Bose,
Secretary.

[FR Doc. 2014-21206 Filed 9-5-14; 8:45 am]

BILLING CODE 6717-01-P